DEPARTMENT OF ENERGY

Federal Energy Regulatory Commission

[Docket No. RP04-171-001]

Portland Natural Gas Transmission System; Notice of Compliance Filing

April 15, 2004.

Take notice that on April 9, 2004, Portland Natural Gas Transmission System (PNGTS) tendered for filing as part of its FERC Gas Tariff, Original Volume No. 1, the following tariff sheets, with an effective date of April 1, 2004:

Substitute First Revised Sheet No. 218

Substitute Original Sheet No. 219

Substitute Original Sheet No. 223

Substitute Third Revised Sheet No. 326

Substitute Second Revised Sheet No. 329

PNGTS states that the purpose of its filing is to comply with the Commission's Order issued in this proceeding on March 25, 2004, which accepted subject to certain conditions and modifications, tariff sheets filed by PNGTS on February 17, 2004, to establish a new hourly firm transportation service, i.e., “Hourly Reserve Service” (HRS) provided under a new Rate Schedule HRS.

PNGTS states that copies of this filing are being served on all jurisdictional customers and interested state commissions, as well as all persons on the service list for this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-902 Filed 4-20-04; 8:45 am]

BILLING CODE 6717-01-U